POSTAL REGULATORY COMMISSION

[Docket No. N2021-1; Order No. 5848]

Service Standard Changes

AGENCY: Postal Regulatory Commission.

ACTION: Notice.

SUMMARY: The Commission notices a filing by the Postal Service of its intent to conduct a pre-filing conference regarding its proposed changes to the service standards for First-Class Mail and end-to-end Periodicals. This document informs the public of this proceeding and the pre-filing conference, and takes other administrative steps.

DATES: Pre-filing conference: April 6, 2021, 1:00 p.m. to 3:00 p.m., Virtual.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION: Pursuant to 39 CFR 3020.111(d), on March 23, 2021, the Postal Service filed a notice of its intent to conduct a pre-filing conference regarding its proposed changes to the service standards for First-Class Mail and end-to-end Periodicals.¹ Due to the COVID-19 pandemic, the conference will be held virtually on April 6, 2021, from 1:00 p.m. to 3:00 p.m. Eastern Daylight Time (EDT). See Notice at 1, 4. At this conference, Postal Service representatives capable of discussing the policy rationale for its proposal will be available to educate the public and to allow interested persons to provide feedback to the Postal Service that it can use to modify or refine its proposal before formally filing a request for an advisory opinion from the Commission. See id. The registration instructions, which are available at https://about.usps.com/what/strategic-plans/delivering-for-america/#conference, direct interested persons to a website to register to participate using Zoom, and state that “[s]pace is limited. Unless all available spaces are taken, you will have until March 30, 2021, at 5:00 p.m. EDT to register.”

¹ Notice of Pre-Filing Conference, March 23, 2021 (Notice).

The Commission establishes Docket No. N2021-1 to consider the Postal Service's proposed changes to the service standards for First-Class Mail and end-to-end Periodicals. In conjunction with the announcement of its 10-Year Strategic Plan,² the Postal Service proposes to amend 39 CFR part 121 to revise the existing service standards for First-Class Mail and end-to-end Periodicals, which would “generally affect service on a nationwide or substantially nationwide basis.” Notice at 1 (quoting 39 U.S.C. 3661(b)).

² See United States Postal Service, Delivering for America: Our Vision and Ten-Year Plan to Achieve Financial Sustainability and Service Excellence, March 23, 2021, at 52, available at https://about.usps.com/what/strategic-plans/delivering-for-america/assets/USPS_Delivering-For-America.pdf.

For First-Class Mail within the contiguous United States, the Postal Service states that its proposal would narrow the scope of the existing 2-Day and 3-Day standards; instead 4-Day and 5-Day standards would apply to certain First-Class Mail traveling longer distances between origin and destination. Notice at 2. The Postal Service states that its proposal would not affect First-Class Mail subject to the existing 1-Day (Overnight) standard. Id. The Postal Service plans to apply a 3-6-Day standard to certain end-to-end Periodicals merged with First-Class Mail for surface transportation, specifying that the Periodicals standard would equal the sum of 1 day plus the applicable First-Class Mail service standard. Id. at 3.

Specifically, the Postal Service proposes to apply the following standards to First-Class Mail.

BILLING CODE 7710-FW-P

BILLING CODE 7710-FW-C

The Postal Service must file its formal request for an advisory opinion with the Commission at least 90 days before implementing any of the proposed changes. 39 CFR 3020.112. This formal request must certify that the Postal Service has made good faith efforts to address the concerns raised at the pre-filing conference and meet other content requirements. Id. section 3020.113. After the Postal Service files the formal request for an advisory opinion, the Commission will set forth a procedural schedule and provide additional information in a notice and order that will be published in the Federal Register. Id. section 3020.110. Before issuing its advisory opinion, the Commission must provide an opportunity for a formal, on-the-record hearing pursuant to 5 U.S.C. 556 and 557. 39 U.S.C. 3661(c). The procedural rules in 39 CFR part 3020 apply to Docket No. N2021-1.

Pursuant to 39 U.S.C. 3661(c) and 39 CFR 3020.111(d), the Commission appoints Samuel M. Poole to represent the interests of the general public (Public Representative) in this proceeding. Pursuant to 39 CFR 3020.111(d), the Secretary shall arrange for publication of this Order in the Federal Register.

It is ordered:

1. The Commission establishes Docket No. N2021-1 to consider the Postal Service's proposed changes to the service standards for First-Class Mail and end-to-end Periodicals.

2. The Postal Service shall conduct a virtual pre-filing conference regarding its proposal on April 6, 2021, from 1:00 p.m. to 3:00 p.m. Eastern Daylight Time.

3. Pursuant to 39 U.S.C. 3661(c) and 39 CFR 3020.111(d), Samuel M. Poole is appointed to serve as an officer of the Commission (Public Representative) to represent the interests of the general public in this proceeding.

4. Pursuant to 39 CFR 3020.111(d), the Secretary shall arrange for publication of this order in the Federal Register.

By the Commission.
Erica A. Barker,
Secretary.

[FR Doc. 2021-06457 Filed 3-29-21; 8:45 am]

BILLING CODE 7710-FW-P